ENVIRONMENTAL PROTECTION AGENCY

[FRL-9473-2]

Settlement Agreements for Recovery of Past Response Costs; Granite Timber Post and Pole Site, Philipsburg, Granite County, MT

AGENCY: Environmental Protection Agency (EPA).

ACTION: Notice and Request for Public Comment.

SUMMARY: In accordance with the requirements of Section 122(i)(1) of the Comprehensive Environmental Response, Compensation, and Liability Act, as amended (CERCLA), 42 U.S.C. 9622(i)(1), notice is hereby given of two Settlement Agreements under Section 122 (h)(1) of CERCLA, 42 U.S.C. 9622 (h)(1), between the United States Environmental Protection Agency (EPA) and Margery Metesh (Settling Party) and Mark Metesh (Settling Party), regarding the Granite Timber Site (Site), located 5 miles south of Philipsburg and 0.5 miles west of Montana Highway 10A in Granite County, Montana. The Settlement Agreements propose to compromise a claim the United States has at this Site for Past Response Costs, as those terms are defined in the Settlement Agreements. Under the terms of the Settlement Agreements, the EPA and the Settling Parties agree that the Settling Parties have no ability to pay and the Settling Parties agree not to assert any claims or causes of action against the United States or its contractors or employees with respect to the Site. Additionally, Margery Metesh (Settling Party) agrees to file a deed record notice concerning a building on a small portion of the Site property. In exchange, the Settling Parties will be granted a covenant not to sue under section 107(a) of CERCLA, 42 U.S.C. 9607(a), with regard to reimbursement of Past Response Costs.

Opportunity for Comment: For thirty (30) days following the publication of this notice, the EPA will consider all comments received and may modify or withdraw its consent to that portion of the Settlement Agreement, if comments received disclose facts or considerations which indicate that the settlement is inappropriate, improper, or inadequate. The EPA's response to any comments received will be available for public inspection at the Superfund Record Center, EPA Region 8, 1595 Wynkoop Street, 3rd Floor, in Denver, Colorado.

DATES: Comments must be submitted on or before October 31, 2011.

ADDRESSES: The Settlement Agreements and additional background information relating to the settlement are available for public inspection at the Regional Records Center, EPA Region 8, 1595 Wynkoop Street, 3rd Floor, in Denver, Colorado. Comments and requests for a copy of the Settlement Agreement should be addressed to Virginia Phillips, Enforcement Specialist (8ENF-RC), Technical Enforcement Program, U.S. Environmental Protection Agency, 1595 Wynkoop Street, Denver, Colorado 80202-1129, and should reference the Granite Timber Site in Philipsburg, Montana.

FOR FURTHER INFORMATION CONTACT: Virginia Phillips, Enforcement Specialist, (8ENF-RC), Technical Enforcement Program, U.S. Environmental Protection Agency, 1595 Wynkoop Street, Denver, Colorado 80202-1129, (303) 312-6197.

It Is So Agreed:
Andrew M. Gaydosh,
Assistant Regional Administrator, Office of Enforcement, Compliance and Environmental Justice, U.S. Environmental Protection Agency, Region 8.

[FR Doc. 2011-25082 Filed 9-28-11; 8:45 am]

BILLING CODE 6560-50-P